EQUAL EMPLOYMENT OPPORTUNITY COMMISSION

Public Town Hall Listening Sessions on EEOC's Proposed Regulations Under the ADA Amendments Act of 2008

AGENCY: Equal Employment Opportunity Commission.

ACTION: Notice of Town Hall Listening Sessions.

SUMMARY: The U.S. Equal Employment Opportunity Commission (EEOC) and the U.S. Department of Justice (DOJ) Civil Rights Division will hold a series of joint Town Hall Listening Sessions on EEOC's proposed regulations under the ADA Amendments Act of 2008 (ADAAA), 74 FR 48431 (09/23/2009). These joint sessions will be held throughout the country to obtain direct input from the business/employer communities and the disability and disability advocacy communities on the proposed regulations.

DATES: The Town Hall Listening Sessions will be held on October 26, 2009 in Oakland, CA; October 30, 2009 in Philadelphia, PA; November 17, 2009 in Chicago, IL; and, November 20, 2009 in New Orleans, LA. Each session will be from 9 a.m. until 4 p.m. Specific information on each session appears below.

ADDRESSES: The locations of the sessions are:

1. Oakland, CA—California Endowment, 1111 Broadway, 7th Floor, Oakland, CA 94607.

2. Philadelphia, PA—Liberty Resources, 714 Market Street, Suite 100, Philadelphia, PA 19106.

3. Chicago, IL—Access Living, 115 West Chicago Avenue, Chicago, IL 60654.

4. New Orleans, LA—University of New Orleans Training Resource and Assistive-Technology Center (UNO-TRAC), 2000 Lakeshore Drive, New Orleans, LA 70148.

For Further Information or to Register as a Speaker Contact:

1. Oakland, CA—Ms. Linda Li at 415-625-5618 (TTY 415-625-5610) or at Linda.Li@eeoc.gov.

2. Philadelphia, PA—Ms. Mary Tiernan at 215-440-2671 (TTY 215-440-2610) or at Mary.Tiernan@eeoc.gov.

3. Chicago, IL—Ms. Rita Coffey at 312-353-7254 (TTY 312-353-2421) or at Rita.Coffey@eeoc.gov.

4. New Orleans, LA—Ms. Maple Thomas at 504-595-2827 (TTY 504-595-2958) or at Maple.Thomas@eeoc.gov.

SUPPLEMENTARY INFORMATION: The sessions will be presided over by EEOC's Acting Chairman, Stuart J. Ishimaru, Acting Vice Chair Christine Griffin, and Commissioner Constance S. Barker, as well as by DOJ's Deputy Assistant Attorney General for Civil Rights, Samuel Bagenstos, Counsel to the Assistant Attorney General for Civil Rights, Mazen Baswari, and Chief of the Disability Rights Section of the Civil Rights Division, John Wodatch.

The Town Hall Listening Sessions provide an opportunity for these officials to hear directly from stakeholders of all perspectives on the proposed regulations. Individuals representing themselves or organizations are urged to take advantage of this opportunity to provide input on the EEOC's Notice of Proposed Rulemaking which can be viewed, along with a question-and-answer guide, at http://www.eeoc.gov.

Five-minute time slots to address the panel will be available from 9 a.m. to 4 p.m. Some of the slots will be available on an advance registration basis and some on a first-come, first-served, sign-up basis at the event. Members of the public are also invited to attend and view the proceedings, with space available on a first-come, first-served basis. Written comments may be submitted at the sessions.

Both EEOC and DOJ want to encourage all individuals and organizations who cannot attend these events to submit input in writing. The public may submit comments and attachments electronically at http://www.regulations.gov, which is the Federal eRulemaking Portal. The ID # is 3046-AA85. Written comments may also be submitted to Stephen Llewellyn, Executive Officer, Executive Secretariat, Equal Employment Opportunity Commission, 131 M Street, NE., Suite 4NW08R, Room 6NE03F, Washington, DC 20507. The Commission will accept comments transmitted by facsimile (“FAX”) machine. The telephone number of the FAX receiver is (202) 663-4114. (This is not a toll-free number.) Only comments of six or fewer pages will be accepted via FAX transmittal. Comments must be submitted on or before November 23, 2009.

Sign Language Interpreters, CART, and assistive listening devices will be available. If you need printed materials in an alternative format e-mail Elisa.gonzalez.ctr@tma.osd.mil Please advise as to your needs and the location (city) of the event you will be attending. In addition as reasonable accommodation, there will be limited availability to provide public input by telephone. To request this accommodation you must register in advance.

Dated: October 19, 2009.
Stuart J. Ishimaru,
Acting Chairman.

[FR Doc. E9-25458 Filed 10-21-09; 8:45 am]

BILLING CODE 6570-10-P